DEPARTMENT OF ENERGY

Federal Energy Regulatory Commission

Sunshine Act Meeting Notice

The following notice of meeting is published pursuant to section 3(a) of the government in the Sunshine Act (Pub. L. 94-409), 5 U.S.C. 552b:

Agency Holding Meeting: Federal Energy Regulatory Commission.

TIME AND DATE: December 17, 2020, 10:00 a.m.

PLACE: Open to the public via audio Webcast only.¹

¹ Join FERC online to listen live at http://ferc.capitolconnection.org/.

STATUS: OPEN.

MATTERS TO BE CONSIDERED: Agenda, * NOTE—Items listed on the agenda may be deleted without further notice.

CONTACT PERSON FOR MORE INFORMATION: Kimberly D. Bose, Secretary, Telephone (202) 502-8400.

For a recorded message listing items struck from or added to the meeting, call (202) 502-8627.

This is a list of matters to be considered by the Commission. It does not include a listing of all documents relevant to the items on the agenda. All public documents, however, may be viewed on line at the Commission's website at http://ferc.capitolconnection.org/ using the eLibrary link.

1073rd Meeting—Open Meeting
[December 17, 2020 10:00 a.m.]
Item No. | Docket No. | Company
Administrative
A-1 | AD21-1-000 | Agency Administrative Matters.
A-2 | AD21-2-000 | Customer Matters, Reliability, Security and Market Operations.
A-3 | AD21-3-000 | Inquiry into California Heat Storm, August 2020.
Electric
E-1 | OMITTED
E-2 | RM21-3-000 | Cybersecurity Incentives.
E-3 | EL21-19-000 | California Independent System Operator Corporation.
E-4 | ER20-2046-001 | PJM Interconnection, L.L.C.; American Transmission Systems Inc.
E-5 | ER20-2308-000 | PJM Interconnection, L.L.C.
E-6 | RM20-8-000 | Virtualization and Cloud Computing Services.
E-7 | OMITTED
E-8 | RM21-2-000, RM20-20-000 | Fuel Cell Thermal Energy Output; Bloom Energy Corporation.
E-9 | ER21-155-000 | Southern California Edison Company.
E-10 | ER21-161-000 | Midcontinent Independent System Operator, Inc. and MidAmerican Energy Company.
E-11 | ER20-2590-000 | Basin Electric Power Cooperative.
E-12 | EF20-7-000 | Western Area Power Administration.
E-13 | ER20-687-001 | Tri-State Generation and Transmission Association, Inc.
E-14 | OMITTED
E-15 | ER19-2722-000, ER19-2722-001, ER19-2722-002 | PJM Interconnection, L.L.C.
E-16 | EC20-94-000 | IIF US Holding LP and IIF US Holding 2 LP.
E-17 | OMITTED
E-18 | EL20-18-000, QF20-184-001, QF20-185-001, QF20-186-001, QF20-187-001, QF20-188-001, QF20-189-001, QF20-190-001, QF20-191-001, QF20-192-001, QF20-193-001, QF20-194-001, QF20-195-001, QF20-196-001, QF20-197-001, QF20-198-001, QF20-199-001, QF20-200-001 | Curry Solar Farm, LLC.
E-19 | EL20-64-000 | IIF US Holding 2 GP, LLC.
E-20 | EL20-15-001 | North Carolina Eastern Municipal Power Agency.
Gas
G-1 | RM20-14-000 | Five-Year Review of the Oil Pipeline Index.
G-2 | PL20-3-000 | Actions Regarding the Commission's Policy on Price Index, Formation and Transparency, and Indices Referenced in Natural Gas and Electric Tariffs.
G-3 | RM20-7-000 | Safe Harbor Policy for Data Providers to Price Index Developers.
G-4 | RP17-811-002, RP18-271-000 | Peregrine Oil & Gas II, LLC v. Texas Eastern Transmission, LP.
G-5 | OMITTED
G-6 | RP19-1634-002, RP20-788-000, RP13-1116-000, RP19-54-000 | Kinetica Deepwater Express, LLC; Kinetica Energy Express, LLC.
G-7 | FA15-16-000 | Dominion Energy Transmission, Inc.
G-8 | IS20-171-001, IS20-169-001, IS20-166-001 | BP Pipelines (Alaska) Inc.; ConocoPhillips Transportation Alaska, Inc.; ExxonMobil Pipeline Company.
G-9 | IN13-15-000, IN13-15-001, IN13-15-002 | BP America Inc.; BP Corporation North America Inc.; BP America Production Company, BP Energy Company.
G-10 | PL21-1-000 | Oil Pipeline Affiliate Contracts.
Hydro
H-1 | P-2197-135 | Cube Yadkin Generation LLC.
Certificates
C-1 | CP20-471-000 | Texas Eastern Transmission, LP.
C-2 | CP16-10-000 | Mountain Valley Pipeline LLC.
C-3 | CP19-118-000 | Trans-Foreland Pipeline Company LLC.
C-4 | OMITTED
C-5 | OMITTED
C-6 | OMITTED
C-7 | CP16-9-011 | Algonquin Gas Transmission, LLC and Maritimes & Northeast Pipeline, LLC.
C-8 | CP17-458-006, CP19-17-002 | Midship Pipeline Company, LLC.
C-9 | OMITTED
C-10 | OMITTED
C-11 | OMITTED
C-12 | OMITTED
C-13 | CP15-17-005 | Sabal Trail Transmission, LLC.

Issued: December 10, 2020.
Kimberly D. Bose,
Secretary.

The public is invited to listen to the meeting live at http://ferc.capitolconnection.org/. Anyone with internet access who desires to hear this event can do so by navigating to www.ferc.gov's Calendar of Events and locating this event in the Calendar. The event will contain a link to its audio webcast. The Capitol Connection provides technical support for this free audio webcast. It will also offer access to this event via phone bridge for a fee. If you have any questions, visit http://ferc.capitolconnection.org/ or contact Shirley Al-Jarani at 703-993-3104.

[FR Doc. 2020-27656 Filed 12-11-20; 11:15 am]

BILLING CODE 6717-01-P